NUCLEAR REGULATORY COMMISSION

Sunshine Notice

AGENCY HOLDING THE MEETING: Nuclear Regulatory Commission.

DATES: Weeks of January 26, February 2, 9, 16, 23, March 1, 2004.

Place: Commissioners' Conference Room, 11555 Rockville Pike, Rockville, Maryland.

Status: Public and Closed.

Matters to be Considered

Week of January 26, 2004

There are no meetings scheduled for the Week of January 26, 2004.

Week of February 2, 2004—Tentative

There are no meetings scheduled for the Week of February 2, 2004.

Week of February 9, 2004—Tentative

There are no meetings scheduled for the Week of February 9, 2004.

Week of February 16, 2004—Tentative

Wednesday, February 18, 2004

9:30 a.m. Briefing on Status of Office of Chief Financial Officer Programs, Performance, and Plans (Public Meeting) (Contact: Edward L. New, 301-415-5646).

This meeting will be webcast live at the Web address— http://www.nrc.gov

Week of February 23, 2004—Tentative

Wednesday, February 25, 2004

9:30 a.m. Discussion of Security Issues (Closed—Ex. 1).

Thursday, February 26, 2004

9:30 a.m. Meeting with UK Regulators to Discuss Security Issues (Closed—Ex. 1)

Week of March 1, 2004—Tentative

Tuesday, March 2, 2004

9:30 a.m. Meeting with Advisory Committee on the Medical Uses of Isotopes (ACMU) & NRC Staff (Public Meeting) (Contact: Angela Williamson, 301-415-5030).

This meeting will be webcast live at the Web address— http://www.nrc.gov

Wednesday, March 3, 2004

9:30 a.m. 25th Anniversary Three Mile Island (TMI) Unit 2 Accident Presentation (Public Meeting) (Contact: Sam Walker, 301-415-1965).

This meeting will be webcast live at the Web address— http://www.nrc.gov

2:45 p.m. Discussion of Security Issues (Closed—Ex. 1).

Thursday, March 4, 2004

1:30 p.m. Briefing on Status of Office of Nuclear Material Safety and Safeguards (NMSS) Programs, Performance, and Plans—Waste Safety (Public Meeting).

This meeting will be webcast live at the Web address— http://www.nrc.gov

*The schedule for Commission meetings is subject to change on short notice. To verify the status of meetings call (recording)—(301) 415-1292. Contact person for more information: Timothy J. Frye, (301) 415-1651.

The NRC Commission Meeting Schedule can be found on the Internet at: http://www.nrc.gov/what-we-do/policy-making/schedule.html

This notice is distributed by mail to several hundred subscribers; if you no longer wish to receive it, or would like to be added to the distribution, please contact the Office of the Secretary Washington, DC 20555 (301) 415-1969. In addition, distribution of this meeting notice over the Internet system is available. If you are interested in receiving this Commission meeting schedule electronically, please send an electronic message to dkw@nrc.gov.

Dated: January 22, 2004.
Timothy J. Frye,
Technical Coordinator, Office of the Secretary.

[FR Doc. 04-1779 Filed 1-13-04; 11:15 am]

BILLING CODE 7590-01-M